DEPARTMENT OF THE INTERIOR

Bureau of Reclamation

South Delta Improvements Program, Sacramento-San Joaquin Bay Delta, CA

AGENCY: Bureau of Reclamation, Interior.

ACTION: Notice of Availability of the Final Environmental Impact Statement/Environmental Impact Report (EIS/EIR).

SUMMARY: Pursuant to the National Environmental Policy Act (NEPA) and the California Environmental Quality Act (CEQA), the Bureau of Reclamation (Reclamation) and the California Department of Water Resources (DWR) have prepared a Final EIS/EIR for the South Delta Improvements Program (SDIP).

The SDIP is being pursued to address the needs of the Sacramento-San Joaquin River Delta (Delta) aquatic environment, as well as longstanding statewise, regional and local water supply needs. Reclamation and DWR have identified the following objectives and purpose: reduce the movement of San Joaquin River watershed Central Valley fall-/late fall-run juvenile Chinook salmon into the south Delta via Old River; maintain adequate water levels and, through improved circulation, water quality available for agricultural diversions in the south Delta, downstream of the head of Old River; and increase water deliveries and delivery reliability for Central Valley Project (CVP) and State Water Project (SWP) water contractors south of the Delta and provide opportunities to convey water for fish and wildlife purposes by increasing the maximum permitted level of diversion through the existing intake gates at Clifton Court Forebay from 6680 cubic feet per second (cfs) to 8500 cfs.

DATES: Reclamation will not make a decision on the proposed action until at least 30 days after release of the Final EIS/EIR. After the 30-day waiting period, Reclamation will complete a Record of Decision (ROD). The ROD will state the action that will be implemented and will discuss all factors leading to the decision.

ADDRESSES: A compact disc of the Final EIS/EIR may be requested from Ms. Sammie Cervantes, Bureau of Reclamation, 2800 Cottage Way, Sacramento CA 95825, by calling 916-978-5189, TDD 916-978-5068, or by e-mail at scervantes@mp.usbr.gov. The Final EIS/EIR is accessible at the following Web site: http://www.usbr.gov/mp/nepa/nepa_projdetails,cfm?Project_ID=316.

See Supplemental Information section for locations where a compact disc is available for viewing.

FOR FURTHER INFORMATION CONTACT: Ms. Sharon McHale, Reclamation Program Manager, Bureau of Reclamation, at 916-978-5086, TDD 916-978-5608, or by e-mail at smchale@mp.usbr.gov.

SUPPLEMENTARY INFORMATION: The Final EIS/EIR addresses facilities-related impacts including the effects of project construction and operation on hydrology, water quality, fish resources, recreation, vegetation and wildlife, visual resources, cultural resources, land use, geology, soils, seismicity, groundwater, traffic and circulation, air quality, noise, and public health and safety. Diversion-related impacts include the effects of increased diversions from the Bay Delta and associated changes in Reclamation's operation of CVP facilities and DWR's operation of SWP facilities. Project diversions therefore may directly or indirectly affect the Sacramento River, its tributaries, San Joaquin River, its tributaries, and Delta resources including water supply, fish and aquatic habitat, riparian vegetation and habitat, water quality, recreation, visual and cultural resources. The Final EIA/EIR also evaluated potential growth-inducing impacts for the CVP and SWP water service areas. An evaluation of cumulative hydrologic and water service area impacts associated with reasonably foreseeable actions is also included.

The Notice of Availability of the Draft EIS/EIR was published in the Federal Register on Thursday, November 10, 2005, (70 FR 68475). The written comment period on the Draft EIS/EIR ended Tuesday, February 7, 2006. The Final EIS/EIR contains responses to all comments received and changes made to the text of the Draft EIS/EIR as a result of those comments and any additional information received during the review period.

Public meetings to discuss the purpose and content of the Draft EIS/EIR were held on the following dates and locations: December 6, 2005, in Sacramento CA; December 7, 2005, in Stockton CA; December 8, 2005, in Oakland CA; December 13, 2005, in Visalia CA; and December 14, 2005, in Los Angeles CA. Public hearings were held on January 18, 2006, in Sacramento CA; January 25, 2005, in Los Angeles CA; and January 26, 2006, in Stockton CA.

A compact disc of the Final EIS/EIR is available for viewing at the following locations:

• California Department of Water Resources, Bay-Delta Office, 1416 Ninth Street, Sacramento, CA 95814.

• Bureau of Reclamation, Regional Library, 2800 Cottage Way, Sacramento, CA 95825-1898.

• Bureau of Reclamation, Denver Office Library, Building 67, Room 167, Denver Federal Center, 6th and Kipling, Denver, CO 80225.

• Natural Resources Library, U.S. Department of the Interior, 1849 C Street, NW., Main Interior Building, Washington, DC 20240-0001.

• Sacramento Public Library, 828 I Street, Sacramento, CA 95814.

• Tracy Branch Library, 20 E. Eaton Avenue, Tracy, CA 95376.

• Lathrop Branch Library, 15461 Seventh Street, Lathrop, CA 95330.

• Cesar Chavez Central Library, 60 North El Dorado Street, Stockton, CA 95202.

• Shasta County Main Library, 1855 Shasta Street, Redding, CA 96001.

• Oakland Main Library, 125 14th Street, Oakland, CA 94612.

• Los Angeles Central Library, 630 West 5th Street, Los Angeles, CA 90071.

• Visalia Branch Library—Main Library, 200 West Oak Avenue, Visalia, CA 932891-4993.

Public Disclosure Statement: Comments received in response to this notice will become part of the administrative record and are subject to public inspection. Our practice is to make comments, including names, home addresses, home phone numbers, and e-mail addresses of respondents, available for public review. Individual respondents may request that we withhold their names and/or home addresses, etc., but if you wish us to consider withholding this information, you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organizations or businesses, and from individuals identifying themselves as representatives or officials of organizations or businesses, available for public inspection in their entirety.

Frank J. Michny,
Acting Assistant Regional Director, Mid-Pacific Region.

[FR Doc. 06-9601 Filed 12-7-06; 8:45 am]

BILLING CODE 4310-MN-M